DEPARTMENT OF TRANSPORTATION

Federal Aviation Administration

14 CFR Part 39

[Docket No. FAA-2007-0201; Directorate Identifier 2007-NM-163-AD; Amendment 39-15433; AD 2008-06-21]

RIN 2120-AA64

Airworthiness Directives; McDonnell Douglas Model DC-10-10 and DC-10-10F Airplanes, Model DC-10-15 Airplanes, Model DC-10-30 and DC-10-30F (KC-10A and KDC-10) Airplanes, Model DC-10-40 and DC-10-40F Airplanes, Model MD-10-10F and MD-10-30F Airplanes, and Model MD-11 and MD-11F Airplanes

AGENCY: Federal Aviation Administration (FAA), DOT.

ACTION: Final rule.

SUMMARY: We are adopting a new airworthiness directive (AD) for all McDonnell Douglas airplane models identified above. This AD requires revising the FAA-approved maintenance program, or the Airworthiness Limitations (AWLs) section of the Instructions for Continued Airworthiness, as applicable, to incorporate new AWLs for fuel tank systems to satisfy Special Federal Aviation Regulation No. 88 requirements. For certain airplanes, this AD also requires the initial accomplishment of a certain repetitive AWL inspection to phase in that inspection, and repair if necessary. This AD results from a design review of the fuel tank systems. We are issuing this AD to prevent the potential for ignition sources inside fuel tanks caused by latent failures, alterations, repairs, or maintenance actions, which, in combination with flammable fuel vapors, could result in a fuel tank explosion and consequent loss of the airplane.

DATES: This AD is effective April 23, 2008.

The Director of the Federal Register approved the incorporation by reference of a certain publication listed in this AD as of April 23, 2008.

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Discussion

We issued a notice of proposed rulemaking (NPRM) to amend 14 CFR part 39 to include an airworthiness directive (AD) that would apply to all McDonnell Douglas Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes. That NPRM was published in the Federal Register on November 19, 2007 (72 FR 64957). That NPRM proposed to require revising the FAA-approved maintenance program, or the Airworthiness Limitations (AWLs) section of the Instructions for Continued Airworthiness, as applicable, to incorporate new AWLs for fuel tank systems to satisfy Special Federal Aviation Regulation No. 88 requirements. For certain airplanes, that NPRM also proposed to require the initial accomplishment of a certain repetitive AWL inspection to phase in that inspection, and repair if necessary.

Comments

We gave the public the opportunity to participate in developing this AD. We considered the comments received from the two commenters.

Changes Made to This AD

For standardization purposes, we have revised this AD in the following ways:

• We have added a new paragraph (k) to this AD to specify that no alternative inspections, inspection intervals, or critical design configuration control limitations (CDCCLs) may be used unless they are part of a later approved revision of the Boeing Trijet Special Compliance Item Report, MDC-02K1003, Revision C, dated July 24, 2007 (hereafter referred to as “Report MDC-02K1003”), or unless they are approved as an alternative method of compliance (AMOC). Inclusion of this paragraph in the AD is intended to ensure that the AD-mandated airworthiness limitations changes are treated the same as the airworthiness limitations issued with the original type certificate.

• We have simplified the language in Note 1 of this AD to clarify that an operator must request approval for an AMOC if the operator cannot accomplish the required inspections because an airplane has been previously modified, altered, or repaired in the areas addressed by the required inspections.

Request To Revise Note 1

Boeing requests that we revise Note 1 of the NPRM to clarify that deviations from the AWLs specified in Report MDC-02K1003, should be approved as an AMOC according to paragraph (k) of the NPRM. Boeing states that Note 1 of the NPRM might be interpreted to mean that the AWLs specified in Report MDC-02K1003 must be revised to reflect modifications, alterations, or repairs that are initiated by an operator and outside of Boeing's design cognizance and responsibility. Boeing requests that we revise Note 1 as follows:

• Replace the words “revision to” with “deviation from” in the last sentence.

• Delete the words “(g), (h), or” and “as applicable” from the last sentence.

As stated previously, we have simplified the language in Note 1 of this AD for standardization with other similar ADs. The language the commenter requests we change does not appear in the revised note; therefore, no additional change to this AD is necessary in this regard.

Request To Clarify Approval of Component Maintenance Manual (CMM) Changes

Boeing requests that we revise the heading and certain wording for the “Changes to Component Maintenance Manuals (CMMs) Cited in Fuel Tank System AWLs” section of the NPRM. Boeing believes that section was intended to address situations where an operator chooses to deviate from the procedures in the CMM referenced in Report MDC-02K1003. Boeing states that its proposed changes are intended to clarify that only deviations proposed by an operator require approval of the Manager, Los Angeles Aircraft Certification Office, FAA. Boeing further states that wording in the NPRM could be interpreted to mean that approval of a CMM in its entirety, including any future CMM revisions by Boeing, would require direct approval of the Manager, Los Angeles, ACO, or governing regulatory authority. Specifically, Boeing requests that we revise that section as follows:

• Revise the heading to “Deviations from Component Maintenance Manuals (CMMs) Cited in Fuel Tank System AWLs.”

• Revise the third sentence to state that the Manager, Los Angeles ACO, must approve “any deviations from” the CMMs “as defined in Report MDC-02K1003.”

• Replace the words “revision of” with “deviation from” in the fourth sentence.

• Revise the fourth sentence to state that those CMMs “as defined in Report MDC-02K1003” will be handled like a change to the AWL itself.

• Delete the entire last sentence.

We agree that clarification is necessary. Our intent is that any deviation from the CMMs as defined in Report MDC-02K1003 must be approved by the Manager, Los Angeles ACO, or the governing regulatory authority, before those deviations can be used. However, we have not changed the AD as suggested by the commenter, since the “Changes to Component Maintenance Manuals (CMMs) Cited in Fuel Tank System AWLs” section of the NPRM is not retained in this final rule.

Request To Refer to Additional Sources of Service Information

FedEx states that, for certain CDCCLs, Appendix B of Report MDC-02K1003 does not refer to the applicable service information (e.g., airplane maintenance manual (AMM), standard wire practices manual, structural repair manual) for accomplishing the required maintenance action. FedEx also states that Boeing has determined where the CDCCLs should be added to the AMM and what verbiage should be used, and that this information has been published as a list on Boeing's website. FedEx, therefore, requests that we revise paragraphs (g) and (h) of the proposed AD to refer to this list or other Boeing documents that clearly identify the manual changes corresponding to each CDCCL in Report MDC-02K1003.

We disagree with revising this AD as requested by the commenter. For some CDCCLs, Boeing formatted Report MDC-02K1003 to provide specific information, where appropriate, concerning the limitations and necessary actions to maintain CDCCLs and ALIs. For other CDCCLs, Boeing has revised the applicable service information to ensure compatibility with those CDCCLs. This revised service information is readily available to affected operators; therefore, there is no need to be more specific for these particular CDCCLs. No change to this final rule is necessary.

Conclusion

We reviewed the relevant data, considered the comments received, and determined that air safety and the public interest require adopting the AD as proposed with the changes described previously. We also determined that these changes will not increase the economic burden on any operator or increase the scope of the AD.

Costs of Compliance

There are about 300 airplanes of the affected design in the worldwide fleet. This AD affects about 180 airplanes of U.S. registry. The required actions take about 1 work hour per airplane, at an average labor rate of $80 per work hour. Based on these figures, the estimated cost of the AD for U.S. operators is $14,400, or $80 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-21 McDonnell Douglas: Amendment 39-15433. Docket No. FAA-2007-0201; Directorate Identifier 2007-NM-163-AD.

Effective Date

(a) This airworthiness directive (AD) is effective April 23, 2008.

Affected ADs

(b) None.

Applicability

(c) This AD applies to all McDonnell Douglas Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) in accordance with paragraph (l) of this AD. The request should include a description of changes to the required inspections that will ensure the continued operational safety of the airplane.

Unsafe Condition

(d) This AD results from a design review of the fuel tank systems. We are issuing this AD to prevent the potential for ignition sources inside fuel tanks caused by latent failures, alterations, repairs, or maintenance actions, which, in combination with flammable fuel vapors, could result in a fuel tank explosion and consequent loss of the airplane.

Compliance

(e) You are responsible for having the actions required by this AD performed within the compliance times specified, unless the actions have already been done.

Service Information Reference

(f) The term “Report MDC-02K1003” as used in this AD, means the Boeing Trijet Special Compliance Item Report, MDC-02K1003, Revision C, dated July 24, 2007.

Revise the FAA-Approved Maintenance Program

(g) For Model DC-10-10 and DC-10-10F airplanes, Model DC-10-15 airplanes, Model DC-10-30 and DC-10-30F (KC-10A and KDC-10) airplanes, and Model DC-10-40 and DC-10-40F airplanes: Before December 16, 2008, revise the FAA-approved maintenance program to incorporate the information specified in Appendixes B, C, and D of Report MDC-02K1003. Accomplishing the revision in accordance with a later revision of Report MDC-02K1003 is an acceptable method of compliance if the revision is approved by the Manager, Los Angeles Aircraft Certification Office (ACO), FAA.

Revise the AWLs Section

(h) For Model MD-10-10F and MD-10-30F airplanes, and Model MD-11 and MD-11F airplanes: Before December 16, 2008, revise the AWLs section of the Instructions for Continued Airworthiness to incorporate the information specified in Appendixes B, C, and D of Report MDC-02K1003, except that the initial inspection required by paragraph (i) of this AD must be done at the applicable compliance time specified in that paragraph. Accomplishing the revision in accordance with a later revision of Report MDC-02K1003 is an acceptable method of compliance if the revision is approved by the Manager, Los Angeles ACO.

Initial Inspection and Repair if Necessary

(i) For Model MD-11 and MD-11F airplanes: Within 60 months after the effective date of this AD, do a detailed inspection of the metallic overbraiding and red-wrap tape installed on the tail tank fuel quantity indication system (FQIS) wiring to verify if the metallic overbraiding or red-wrap tape is damaged or shows signs of deterioration, in accordance with ALI 20-2 of Appendix C of Report MDC-02K1003. If any discrepancy is found during the inspection, repair the discrepancy before further flight in accordance with ALI 20-2 of Appendix C of Report MDC-02K1003. Accomplishing the actions required by this paragraph in accordance with a later revision of Report MDC-02K1003 is an acceptable method of compliance if the revision is approved by the Manager, Los Angeles ACO.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Reporting Requirement

(j) Although Report MDC-02K1003 specifies to submit certain information to the manufacturer, this AD does not require that action.

No Alternative Inspections, Inspection Intervals, or Critical Design Configuration Control Limitations (CDCCLs)

(k) After accomplishing the applicable actions specified in paragraphs (g), (h), and (i) of this AD, no alternative inspections, inspection intervals, or CDCCLs may be used unless the inspections, intervals, or CDCCLs are part of a later revision of Report MDC-02K1003 that is approved by the Manager, Los Angeles ACO; or unless the inspections, intervals, or CDCCLs are approved as an AMOC in accordance with the procedures specified in paragraph (l) of this AD.

Alternative Methods of Compliance (AMOCs)

(l)(1) The Manager, Los Angeles ACO, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(m) You must use Boeing Trijet Special Compliance Item Report, MDC-02K1003, Revision C, dated July 24, 2007, to do the actions required by this AD, unless the AD specifies otherwise. This document has the following effective pages:

Page No. | Revision level shown on page | Date shown on page
Title Page, iii-iv, B24, B38 | C | July 24, 2007.
ii, B2, B21, B26, B27, B34, B40, B41, C6, C7 | B | August 9, 2007.
1, B1, B3-B20, B22, B23, B25, B28-B33, B35-B37, B39, C1-C5, D1 | A | December 15, 2005.
A1-A3 | Original | May 17, 2002.

(This document does not include Page ii. The “Table of Contents” section of the document refers to Item 28-3 on Page B27; however, Item 28-3 is on Page B29 of the document. The revision dates are only specified in the “Index of Pages” section of the document.)

(1) The Director of the Federal Register approved the incorporation by reference of this service information under 5 U.S.C. 552(a) and 1 CFR part 51.

(2) For service information identified in this AD, contact Boeing Commercial Airplanes, Long Beach Division, 3855 Lakewood Boulevard, Long Beach, California 90846, Attention: Data and Service Management, Dept. C1-L5A (D800-0024).

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on March 9, 2008.
Stephen P. Boyd,
Assistant Manager, Transport Airplane Directorate, Aircraft Certification Service.

[FR Doc. E8-5145 Filed 3-18-08; 8:45 am]

BILLING CODE 4910-13-P